UNITED STATES POSTAL SERVICE BOARD OF GOVERNORS

Sunshine Act Meeting

DATE AND TIME: Monday, December 10, 2007, at 11 a.m. and Tuesday, December 11, 2007, at 8:30 a.m. and 10:30 a.m.

PLACE: Washington, DC, at U.S. Postal Service Headquarters, 475 L'Enfant Plaza, SW., in the Benjamin Franklin Room.

STATUS: December 10—11 a.m.—Closed; December 11—8:30 a.m.—Open; December 11—10:30 a.m.—Closed.

MATTERS TO BE CONSIDERED:

Monday, December 10 at 11 a.m. (Closed)

1. Strategic Issues.

2. Financial Update.

3. Product Pricing Update.

4. Global Business Pricing for Customized Agreements.

5. Postal Regulatory Commission Opinion and Recommended Decision in Negotiated Service Agreement with Bank of America, Docket No. MC2007-1.

6. Labor Update.

7. Personnel Matters and Compensation Issues.

8. Governors' Executive Session—Discussion of prior agenda items and Board Governance.

Tuesday, December 11 at 8:30 a.m. (Open)

1. Minutes of Previous Meeting, November 14-15, 2007.

2. Remarks of the Chairman and Vice Chairman of the Board.

3. Remarks of the Postmaster General and CEO Jack Potter.

4. Holiday Preparations.

5. Committee Reports.

6. Consideration of the Postal Service Fiscal Year 2007 Annual Report.

7. Fiscal Year 2007 Comprehensive Statement on Postal Operations, including Government Performance and Results Act (GPRA) Reporting Requirements.

8. Consideration of Final Fiscal Year 2009 Appropriation Request.

9. Diversity Strategy.

10. Tentative Agenda for the January 29-30, 2008, meeting in Washington, DC.

Tuesday, December 11 at 10:30 a.m. (Closed)—if needed.

1. Continuation of Monday's closed session agenda.

CONTACT PERSON FOR MORE INFORMATION: Wenday A. Hocking, Secretary of the Board, U.S. Postal Service, 475 L'Enfant Plaza, SW., Washington, DC 20260-1000. Telephone (202) 268-4800.

Wendy A. Hocking,
Secretary.

[FR Doc. 07-5945 Filed 11-30-07; 3:56 pm]

BILLING CODE 7710-12-M